DEPARTMENT OF HEALTH AND HUMAN SERVICES

Centers for Disease Control and Prevention

[60Day-03-69]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 14 days of this notice.

Proposed Project: Evaluation Questions for State Nutrition and Physical Activity Programs to Prevent Obesity and Other Chronic Diseases—New—National Center for Chronic Disease Prevention and Health Promotion (NCCDHP), Centers for Disease Control and Prevention (CDC)

Background and Description: CDC's State Nutrition and Physical Activity Programs to Prevent Obesity and Other Chronic Diseases were established to prevent and control obesity and other chronic diseases by supporting States in the development and implementation of nutrition and physical activity interventions, particularly through population-based strategies such as policy-level changes, environmental supports and the social marketing process. The goal of the program is to attain population-based behavior change in increased physical activity and better dietary habits; this leads to a reduction in the prevalence of obesity, and ultimately in a reduction in the prevalence of obesity-related chronic diseases.

The evaluation of CDC's State Nutrition and Physical Activity Programs to Prevent Obesity and Other Chronic Diseases has been designed to focus on three primary areas: CDC training and technical assistance; State Plan development; and State interventions. Within each of these primary evaluation areas, the plan identifies specific evaluation questions that have been chosen for study. The evaluation questions will be asked of the funded states via a web-based data collection system supported by an electronic database. This evaluation will take place every 6 months during the funding cycle.

Cost to the respondents: There is no cost to the respondents.

Respondents | Number of respondents | Number responses per respondent | Average burden per response (in hrs.) | Total burden (in hrs.)
Funded State Programs | 20 | 2 | 5 | 200
Total |  |  |  | 200

Dated: May 19, 2003.
Thomas A. Bartenfeld,
Acting Associate Director for Policy, Planning and Evaluation, Centers for Disease Control and Prevention.

[FR Doc. 03-12961 Filed 5-22-03; 8:45 am]

BILLING CODE 4163-18-P